DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Date of modification | Community No.
Connecticut: Hartford (FEMA Docket No.: B-2542) | Town of Manchester (24-01-0625P) | Steve Stephanou, Manager, Town of Manchester, 41 Center Street, Manchester, CT 06040 | Planning and Economic Development Department, 494 Main Street, Manchester, CT 06045 | Aug. 28, 2025 | 090031
Florida:
Bay (FEMA Docket No.: B-2534) | Unincorporated areas of Bay County(24-04-7348P) | Robert Majka, Bay County Manager, 840 West 11th Street, Panama City, FL 32401 | Bay County Planning and Zoning Department, 840 West 11th Street, Panama City, FL 32401 | Aug. 25, 2025 | 120004
Collier (FEMA Docket No.: B-2534) | Unincorporated areas of Collier County (25-04-1234P) | Amy Patterson, Manager, Collier County, 3299 Tamiami Trail East, Suite 202, Naples, FL 34112 | Collier County Growth Management Community Development Department, Naples, FL 34104 | Sep. 2, 2025 | 120067
Hillsborough (FEMA Docket No.: B-2538) | City of Tampa (24-04-1192P) | The Honorable Jane Castor, Mayor, City of Tampa, 306 East Jackson Street, Tampa, FL 33602 | City Hall, 306 East Jackson Street, Tampa, FL 33602 | Sep. 15, 2025 | 120114
Lake (FEMA Docket No.: B-2534) | City of Leesburg (24-04-2701P) | The Honorable Alan Reisman, Mayor, City of Leesburg, 501 West Meadow Street, Leesburg, FL 34748 | City Hall, 501 West Meadow Street, Leesburg, FL 34748 | Aug. 25, 2025 | 120136
Leon (FEMA Docket No.: B-2538) | City of Tallahassee (24-04-2135P) | The Honorable John E. Dailey, Mayor, City of Tallahassee, 300 South Adams Street, Tallahassee, FL 32301 | Growth Management Department, 435 North Macomb Street, Tallahassee, FL 32301 | Sep. 12, 2025 | 120144
Orange (FEMA Docket No.: B-2534) | City of Orlando (24-04-4619P) | The Honorable Buddy Dyer, Mayor, City of Orlando, 400 South Orange Avenue, Orlando, FL 32801 | Public Works Department, Engineering Services Division, 400 South Orange Avenue, 8th Floor, Orlando, FL 32801 | Sep. 8, 2025 | 120186
Orange (FEMA Docket No.: B-2534) | Unincorporated areas of Orange County (24-04-2048P) | The Honorable Jerry L. Demings, Mayor, Orange County, 201 South Rosalind Avenue, 5th Floor, Orlando, FL 32801 | Public Works Department, Stormwater Management Division, 4200 South John Young Parkway, Orlando, FL 32839 | Sep. 5, 2025 | 120179
Pasco (FEMA Docket No.: B-2538) | Unincorporated areas of Pasco County (24-04-2841P) | Kathryn Starkey, Chair, Pasco County Board of Commissioners, 8731 Citizens Drive, New Port Richey, FL 34654 | Pasco County Building Construction Services Department, 8661 Citizens Drive, Suite 100, New Port Richey, FL 34654 | Sep. 15, 2025 | 120230
Volusia (FEMA Docket No.: B-2534) | City of Ormond Beach (24-04-1515P) | Joyce Shanahan, Manager, City of Ormond Beach, 22 South Beach Street, Ormond Beach, FL 32174 | City Hall, 22 South Beach Street, Ormond Beach, FL 32174 | Aug. 26, 2025 | 125136
Volusia (FEMA Docket No.: B-2534) | Unincorporated areas of Volusia County (24-04-1515P) | George Recktenwald, Manager, Volusia County, 123 West Indiana Avenue, DeLand, FL 32720 | Volusia County Thomas C. Kelly Administration Center, 123 West Indiana Avenue, DeLand, FL 32720 | Aug. 26, 2025 | 125155
Georgia:
Forsyth (FEMA Docket No.: B-2534) | Unincorporated areas of Forsyth County (24-04-4810P) | David McKee, Manager, Forsyth County, 110 East Main Street, Suite 210, Cumming, GA 30040 | Forsyth County, Administration Center, 110 East Main Street, Suite 130, Cumming, GA 30040 | Sep. 4, 2025 | 130312
Gwinnett (FEMA Docket No.: B-2531) | Unincorporated areas of Gwinnett County (24-04-1735P) | Glenn Stephens, Administrator, Gwinnett County, 75 Langley Drive, Lawrenceville, GA 30046 | Gwinnett County Information Technology Services, 446 West Crogan Street, Suite 200, Lawrenceville, GA 30046 | Sep. 2, 2025 | 130322
Indiana:
Allen (FEMA Docket No.: B-2531) | City of Fort Wayne (25-05-0718X) | The Honorable Sharon Tucker, Mayor, City of Fort Wayne, 200 East Berry Street, Suite 425, Fort Wayne, IN 46802 | City Hall, 200 East Berry Street, Fort Wayne, IN 46802 | Aug. 28, 2025 | 180003
Hancock (FEMA Docket No.: B-2534) | City of Greenfield (22-05-2944P) | The Honorable Guy Titus, Mayor, City of Greenfield, 10 South State Street, Greenfield, IN 46140 | City Hall, 10 South State Street, Greenfield, IN 46140 | Sep. 11, 2025 | 180084
Hancock (FEMA Docket No.: B-2534) | Unincorporated areas of Hancock County (22-05-2944P) | Bill Spalding, President, Hancock County Board of Commissioners, 111 South American Legion Place, Suite 217, Greenfield, IN 46140 | Hancock County Annex Building, 111 South American Legion Place, Suite 171, Greenfield, IN 46140 | Sep. 11, 2025 | 180419
Kentucky: Jefferson (FEMA Docket No.: B-2542) | Metropolitan Government of Louisville and Jefferson County (25-04-2107X) | The Honorable Craig Greenberg, Mayor, Metropolitan Government of Louisville and Jefferson County, 527 West Jefferson Street, Louisville, KY 40202 | Louisville/Jefferson County Metropolitan Sewer District, 700 West Liberty Street, Louisville, KY 40203 | Sep. 2, 2025 | 210120
Minnesota:
Dakota (FEMA Docket No.: B-2534) | City of Apple Valley (23-05-1985P) | The Honorable Clint Hooppaw, Mayor, City of Apple Valley, 7100 147th Street West, Apple Valley, MN 55124 | City Hall, 7100 147th Street West, Apple Valley, MN 55124 | Sep. 2, 2025 | 270050
Dakota (FEMA Docket No.: B-2534) | City of Burnsville (23-05-1985P) | The Honorable Elizabeth Kautz, Mayor, City of Burnsville, 100 Civic Center Parkway, Burnsville, MN 55337 | City Hall, 100 Civic Center Parkway, Burnsville, MN 55337 | Sep. 2, 2025 | 270102
Dakota (FEMA Docket No.: B-2534) | City of Lakeville (23-05-1985P) | The Honorable Luke Hellier, Mayor, City of Lakeville, 20195 Holyoke Avenue, Lakeville, MN 55044 | City Hall, 20195 Holyoke Avenue, Lakeville, MN 55044 | Sep. 2, 2025 | 270107
Mississippi: Harrison (FEMA Docket No.: B-2534) | City of Pass Christian (25-04-0868P) | The Honorable Jimmy Rafferty, Mayor, City of Pass Christian, 200 West Scenic Drive, Pass Christian, MS 39571 | Building Department, 200 West Scenic Drive, Pass Christian, MS 39571 | Sep. 11, 2025 | 285261
New Jersey: Somerset (FEMA Docket No.: B-2534) | Borough of Manville (24-02-0606P) | The Honorable Richard M. Onderko, Mayor, Borough of Manville, 325 North Main Street, Manville, NJ 08835 | Building Department, 325 North Main Street, Manville, NJ 08835 | Sep. 4, 2025 | 340437
North Carolina:
Brunswick (FEMA Docket No.: B-2555) | Town of Calabash (23-04-1192P) | The Honorable Donna Long, Mayor, Town of Calabash, 882 Persimmon Road Calabash, NC 28467 | Planning and Zoning Department, 882 Persimmon Road Calabash, NC 28467 | Sep. 19, 2025 | 370395
Brunswick (FEMA Docket No.: B-2555) | Town of Carolina Shores (23-04-1192P) | The Honorable Daniel Conte, Mayor, Town of Carolina Shores 200 Persimmon Road Carolina Shores, NC 28467 | Planning and Zoning Division, 200 Persimmon Road Carolina Shores, NC 28467 | Sep. 19, 2025 | 370517
Brunswick (FEMA Docket No.: B-2555) | Unincorporated areas of Brunswick County (23-04-1192P) | Mike Forte, Chair, Brunswick County Board of Commissioners, P.O. Box 249, Bolivia, NC 28422 | Brunswick County Planning Department, 75 Courthouse Drive, Building 1, Bolivia, NC 28422 | Sep. 19, 2025 | 370295
Ohio: Lorain (FEMA Docket No.: B-2538) | Unincorporated areas of Lorain County (25-05-0332P) | Jeff Riddell, President, Lorain County Board of Commissioners, 226 Middle Avenue, Elyria, OH 44035 | Lorain County Community Development Department, 226 Middle Avenue, Elyria, OH 44035 | Sep. 15, 2025 | 390346
Pennsylvania:
Montgomery (FEMA Docket No.: B-2534) | Borough of Conshohocken (24-03-0897P) | Tina Sokolowski, President, Borough of Conshohocken Council, 400 Fayette Street, Conshohocken, PA 19428 | Borough Hall, 400 Fayette Street, Suite 200, Conshohocken, PA 19428 | Sep. 2, 2025 | 420949
Montgomery. (FEMA Docket No.: B-2534) | Borough of West Conshohocken (24-03-0897P) | The Honorable Danelle Fournier, Mayor, Borough of West Conshohocken, 112 Ford Street, West Conshohocken, PA 19428 | Borough Hall, 112 Ford Street, West Conshohocken, PA 19428 | Sep. 2, 2025 | 420710
Montgomery. (FEMA Docket No.: B-2534) | Township of Plymouth (24-03-0897P) | Matt West, Manager, Township of Plymouth, 700 Belvoir Road, Plymouth Meeting, PA 19462 | Township Hall, 700 Belvoir Road, Plymouth Meeting, PA 19462 | Sep. 2, 2025 | 420955
South Carolina: Berkeley (FEMA Docket No.: B-2542) | Unincorporated areas of Berkeley County (23-04-6045P) | Johnny Cribb, Supervisor, Berkeley County Council, 1003 North Highway 52, Moncks Corner, SC 29461 | Berkeley County Building and Codes Enforcement, 1003 North Highway 52, Moncks Corner, SC 29461 | Sep. 11, 2025 | 450029
Tennessee: Shelby (FEMA Docket No.: B-2534) | City of Lakeland (24-04-1254P) | The Honorable Josh Roman, Mayor, City of Lakeland, 10001 Highway 70, Lakeland, TN 38002 | City Hall, 10001 Highway 70, Lakeland, TN 38002 | Sep. 4, 2025 | 470402
Texas:
Bexar (FEMA Docket No.: B-2546) | City of Castle Hills (24-06-1858P) | The Honorable J.R. Trevino, Mayor, City of Castle Hills, 209 Lemonwood Drive, San Antonio, TX 78213 | City Hall, 209 Lemonwood Drive, San Antonio, TX 78213 | Sep. 15, 2025 | 480037
Bexar (FEMA Docket No.: B-2546) | City of San Antonio (24-06-1858P) | The Honorable Ron Nirenberg, Mayor, City of San Antonio, P.O. Box 839966, San Antonio, TX 78283 | Public Works Department, Storm Water Division, 1901 South Alamo Street, 2nd Floor, San Antonio, TX 78204 | Sep. 15, 2025 | 480045
Collin (FEMA Docket No.: B-2534) | City of McKinney (24-06-2290P) | The Honorable George Fuller, Mayor, City of McKinney, P O. Box 517, McKinney, TX 75070 | Engineering Department, 401 East Virginia Street, McKinney, TX 75069 | Sep. 2, 2025 | 480135
Collin and Denton (FEMA Docket No.: B-2534) | City of Plano (24-06-0941P) | The Honorable John B. Muns, Mayor, City of Plano, 1520 K Avenue, Plano, TX 75074 | City Hall, 1520 K Avenue, Plano, TX 75074 | Sep. 2, 2025 | 480140
Collin (FEMA Docket No.: B-2542) | Unincorporated areas of Collin County (25-06-0230P) | The Honorable Chris Hill, Collin County Judge, 2300 Bloomdale Road, 1st Floor, McKinney, TX 75071 | Collin County Engineering Building, 4690 Community Avenue, Suite 200, McKinney, TX 75071 | Sep. 2, 2025 | 480130
Gillespie (FEMA Docket No.: B-2534) | City of Fredericksburg (24-06-1853P) | The Honorable Jeryl Hoover, Mayor, City of Fredericksburg, 126 West Main Street, Fredericksburg, TX 78624 | City Hall, 126 West Main Street, Fredericksburg, TX 78624 | Sep. 11, 2025 | 480252
Hays (FEMA Docket No.: B-2534) | Unincorporated areas of Hays County (25-06-0011X) | The Honorable Ruben Becerra, Hays County Judge, 111 East San Antonio Street, Suite 300, San Marcos, TX 78666 | Hays County Development Services Department, 2171 Yarrington Road, Kyle, TX 78640 | Sep. 11, 2025 | 480321
Medina (FEMA Docket No.: B-2538) | Unincorporated areas of Medina County (24-06-2238P) | The Honorable Keith Lutz, Medina County Judge, 1300 Avenue M, Room 250, Hondo, TX 78861 | Old Medina County Jail, 1502 Avenue K, 2nd Floor, Hondo, TX 78861 | Sep. 12, 2025 | 480472
Williamson (FEMA Docket No.: B-2538) | Unincorporated areas of Williamson County (25-06-0227P) | The Honorable Steven Snell, Williamson County Judge, 710 South Main Street, Suite 101, Georgetown, TX 78626 | Williamson County Central Maintenance Facility, 3151 Southeast Inner Loop, Georgetown, TX 78626 | Sep. 15, 2025 | 481079
Wise (FEMA Docket No.: B-2534) | City of Chico (24-06-1613P) | The Honorable Colleen Self, Mayor, City of Chico, P.O. Box 37, Chico, TX 76431 | City Hall, 400 South Hovey Street, Chico, TX 76431 | Sep. 12, 2025 | 481053
Virginia:
Loudoun (FEMA Docket No.: B-2534) | Town of Leesburg (24-03-0775P) | Kaj Dentler, Manager, Town of Leesburg, 25 West Market Street, Leesburg, VA 20176 | Department of Community Development, Engineering Division, 222 Catoctin Circle, Suite 200, Leesburg, VA 20175 | Sep. 8, 2025 | 510091
Loudoun (FEMA Docket No.: B-2534) | Unincorporated areas of Loudoun County (24-03-0775P) | Tim Hemstreet, Administrator, Loudoun County, 1 Harrison Street, Southeast, 5th Floor, Leesburg, VA 20175 | Loudoun County Government Center, 1 Harrison Street Southeast, 3rd Floor, MSC #60, Leesburg, VA 20175 | Sep. 8, 2025 | 510090

[FR Doc. 2025-20376 Filed 11-19-25; 8:45 am]

BILLING CODE 9110-12-P